DEPARTMENT OF COMMERCE

International Trade Administration

[A-201-809]

Cut-to-length Carbon Steel Plate from Mexico; Notice of Extension of Time Limit for Preliminary Results in Antidumping Duty Administrative Review

AGENCY: Import Administration, International Trade Administration, Department of Commerce.

DATES: April 25, 2002.

SUMMARY: The Department of Commerce is extending the time limit for completion of the preliminary results of the administrative review of the antidumping duty order on cut-to-length carbon steel plate from Mexico. The period of review is August 1, 2000, through July 31, 2001.

FOR FURTHER INFORMATION CONTACT: Thomas Killiam or Michael Heaney at (202) 482-5222 or (202) 482-4475, respectively, AD/CVD Enforcement Group III, Office 8, Import Administration, International Trade Administration, U.S. Department of Commerce, 14th Street and Constitution Avenue, NW., Washington, DC 20230.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act. In addition, unless otherwise indicated, all citations to the Department's regulations are to 19 CFR part 351 (2001).

Background:

On October 26, 2001, the Department published a notice of initiation of administrative review of the antidumping duty order on cut-to-length carbon steel plate from Mexico (66 FR 54195). The period of review is August 1, 2000, through July 31, 2001. The review covers one producer/exporter of the subject merchandise to the United States, Altos Hornos de Mexico, S.A. de C.V.

Pursuant to section 751(a)(3)(A) of the Tariff Act, the Department shall make a preliminary determination in an administrative review of an antidumping order within 245 days after the last day of the anniversary month of the date of publication of the order. The Tariff Act further provides, however, that the Department may extend the 245-day period to 365 days if it determines it is not practicable to complete the review within the foregoing time period. This review involves a number of complicated sales and cost issues. As a result, we need additional time for our analysis. Because it is not practicable to complete this administrative review within the time limit mandated by section 751(a)(3)(A) of the Tariff Act, the Department is extending the time limit for completion of the preliminary results. Consequently, we have extended the deadline until August 31, 2002.

This extension is in accordance with section 751(a)(3)(A) of the Tariff Act (19 USC 1675(a)(3)(A)(2000)) and 19 CFR 351.213(h)(2).

DATED: April 12, 2002
Joseph A. Spetrini,
Deputy Assistant Secretary For Import Administration Group III.

[FR Doc. 02-10206 Filed 4-24-02; 8:45 am]

BILLING CODE 3510-DS-S